DEPARTMENT OF TRANSPORTATION

Office of the Secretary

[Docket No. DOT-OST-2025-0002]

Draft Designation of National Multimodal Freight Network and State Input Process

AGENCY: Office of the Secretary of Transportation (OST), Federal Aviation Administration (FAA), Federal Highway Administration (FHWA), Federal Railroad Administration (FRA), Maritime Administration (MARAD), Federal Motor Carrier Safety Administration (FMCSA), Great Lakes St. Lawrence Seaway Development Corporation (GLS), and Pipelines and Hazardous Materials Safety Administration (PHMSA), Department of Transportation.

ACTION: Draft designation and request for comment; response to comments.

SUMMARY: The U.S. Department of Transportation (DOT or Department) is publishing a draft designation of the National Multimodal Freight Network (NMFN or Network) as required Federal law. The designation is informed by the comments received on a notice published by DOT on April 12, 2024. DOT is also using this notice to request comments or proposed modifications to the draft Network prior to designating the Network. Once the Network is designated by DOT, States will have the opportunity to submit additional designations through the “State Input” process required by statute.

DATES: Comments must be received on or before February 27, 2025 to receive consideration by DOT with respect to the draft designation of the NMFN.

ADDRESSES: To ensure that you do not duplicate your docket submissions, please submit them by only one of the following means:

• Federal eRulemaking Portal: Go to https://www.regulations.gov and follow the online instructions for submitting comments.

• Mail: Docket Management Facility, U.S. Department of Transportation, 1200 New Jersey Ave. SE, W12-140, Washington, DC 20590-0001.

• Hand Delivery: West Building Ground Floor, Room W12-140, 1200 New Jersey Ave. SE, between 9 a.m. and 5 p.m., Monday through Friday, except Federal holidays. The telephone number is (202) 366-9329.

• Instructions: You must include the agency name and docket number at the beginning of your comments. All comments received will be posted without change to https://www.regulations.gov, including any personal information provided.

FOR FURTHER INFORMATION CONTACT: Paul Baumer, Office of the Assistant Secretary for Multimodal Freight, 202-366-1092 or via email at freight@dot.gov.

SUPPLEMENTARY INFORMATION:

Background

Summary of Draft NMFN

The Draft NMFN consists of approximately 175,000 miles of highways, railways, and waterways and 205 marine ports and airports that are proposed for designation due to their criticality to freight movement and global and domestic supply chains. The Network was designed to promote intermodal connectivity, based on measurable data assessing the significance of freight movement, including origins and destinations of freight movements, and in consideration of the factors outlined in 49 U.S.C. 70103(b)(2). The Network is described in larger detail below.

Responses to 2024 NMFN RFI

On April 12, 2024, DOT published a Request for Information (RFI) in the Federal Register (89 FR 25913) with a 60-day comment period soliciting information on the “Goals, Criteria, Thresholds, and Measurable Data Sources for Designating the National Multimodal Freight Network.” DOT received 43 written responses to the April RFI on the goals, criteria, thresholds, and measurable data sources for designating the NMFN. The respondents included representatives from State Departments of Transportation (State DOTs), Metropolitan Planning Organizations (MPOs), private sector shippers and carriers, port authorities, railroads, and community interest groups. DOT posed eight questions to the public through the RFI, and while not all responses addressed each question, several major themes emerged.

NMFN Purpose: A plurality of respondents indicated that the using the NMFN to prioritize Federal formula or discretionary grant investment was the most important purpose to ensuring the NMFN provides a foundation for the U.S. to compete in the global economy. While this was the most frequent answer among commenters who responded to this question, DOT notes that several commenters felt strongly that the NMFN should not be used to prioritize Federal funding in this manner. Other commenters noted that NMFN should be linked with other Federal efforts to prioritize investment in zero-emission infrastructure and technologies, and that the NMFN can serve as a catalyst for economic development and the creation of high-quality jobs in the zero-emission freight sector.

How the NMFN will be used: Replying to the second question, commenters described a variety of different plans for how they would use the NMFN once designated. Several State and local governments stated they planned to use the NMFN to better integrate freight planning and investment in order to support their economic, safety, and environmental goals. An association representing private sector operators indicated that the NMFN could assist with optimizing shipping routes and mode choice.

Prioritizing Statutory Factors: Section 70103(b)(2) sets forth twelve factors DOT must consider in designating the NMFN. While, as required by statute, DOT is considering all of the statutory factors in its designation, DOT was particularly interested in how respondents would prioritize these twelve statutory factors. Due to the diversity in how commenters responded to the question, DOT chose to analyze the frequency with which a factor was ranked in the top 3 by each respondent. A table with the results is provided below:

Factor | Frequency with which factor was Top 3 ranked
1. Origins and destinations of freight movement within, to, and from the United States; | 6
2. Volume, value, tonnage, and the strategic importance of freight; | 5
3. Access to border crossings, airports, seaports, and pipelines; | 5
4. Economic factors, including balance of trade; | 2
5. Access to major areas for manufacturing, agriculture, or natural resources; | 8
6. Access to energy exploration, development, installation, and production areas; | 3
7. Intermodal links and intersections that promote connectivity; | 14
8. Freight choke points and other impediments contributing to significant measurable congestion, delay in freight movement, or inefficient modal connections; | 7
9. Impacts on all freight transportation modes and modes that share significant freight infrastructure; | 2
10. Facilities and transportation corridors identified by a multi-State coalition, a State, a State freight advisory committee, or an MPO, using national or local data, as having critical freight importance to the region; | 8
11. Major distribution centers, inland intermodal facilities, and first- and last-mile facilities; [3] and | 9
12. The significance of goods movement, including consideration of global and domestic supply chains. | 5

Commenters' priorities were widely distributed across the statutory factors, with every factor identified ranked in the top 3 at least twice. Nevertheless, a clear theme emerged, with a plurality of commenters expressing a clear preference that DOT prioritize “Intermodal links and intersections that promote connectivity.” This aligns with the second most frequently cited factor, “Major distribution centers, inland intermodal facilities, and first- and last-mile facilities.”

Other factors of note included “Access to major areas for manufacturing, agriculture, or natural resources” and “Facilities and transportation corridors identified by a multi-State coalition, a State, a State Freight Advisory Committee, or an MPO, using national or local data, as having critical freight importance to the region.”

These comments informed DOT's approach to the Draft Network. First and foremost, DOT prioritized ensuring the Network would support the multimodal movement of freight by including intermodal connections to the extent supported by available data. A large share of marine ports and airports, major multimodal freight generators, along with the National Highway System (NHS)-designated intermodal connectors included in the Primary Highway Freight System, were incorporated into the draft NMFN.

To incorporate the consideration of manufacturing, agriculture, and natural resource economic sectors, along with other features of our modern supply chains, DOT analyzed commodity flows from the Freight Analysis Framework (FAF), Waybill, and Waterborne Commerce data, to ensure the Network had a broad reach and covered routes significant for one or more commodity groups. The data used and analyses conducted are described in more detail in the NMFN Designation Methodology and Extent section of this Notice.

Other Factors for Consideration: DOT asked respondents to provide feedback on to what extent the NMFN should also reflect other factors, including safety, climate and sustainability, equity, national defense, consistency with other federally-designated networks, and transformation. A majority of respondents were supportive of considering these factors, with safety, and climate and sustainability most frequently cited.

Community interest groups highlighted that NMFN designation should factor in air quality improvements, address historical disparities and promote equitable outcomes, and integrate meaningful participation from disadvantaged communities in the designation process. DOT intends for this notice and draft Network to serve as a starting point for conversation and input from impacted communities on proposed designations.

Reflecting the interest in consistency with other networks, DOT used FHWA's Primary Highway Freight System (PHFS) as the initial base layer of the NMFN. Combined with the remainder of the Interstate Highway System, this constitutes more than 86.6% of the National Highway Freight Network (NHFN). The remaining NHFN mileage, constituting MPO assigned Critical Urban Freight Corridors (CUFCs) and State assigned Critical Rural Freight Corridors (CRFCs), were not comprehensively included in the base layer for the Draft Network, due to the inconsistent approaches in designating routes and frequent changes by States in assigning their limited CUFC/CRFC mileage. While previously designated Critical Urban/Rural Freight corridors were not included in the Draft Network base layer, DOT referred to designated CUFC/CRFCs to help validate other data sources on freight movement when necessary.

Reflecting national defense needs, DOT included the Strategic Highway Network (STRAHNET), the Strategic Rail Corridor Network (STRACNET), and Strategic Sealift Ports as part of the NMFN's base layer.

Other Comments: Some respondents expressed an interest in a more expansive highway network, noting in particular that the 2016 Interim National Multimodal Freight Network did not sufficiently capture the roadways significant to freight movement. It is worth noting that the highway component of the 2024 draft Network is approximately 28% larger than the 2016 Interim Network,¹ prior to any additional designations that may follow this Notice.

¹ The statutory language establishing the 2016 Interim National Multimodal Freight Network was repealed in the Infrastructure Investments and Jobs Act, Public Law 117-58 (2021).

The draft rail and waterway Network components were chosen based on available usage data, described below, with an effort to take a consistent approach to designation across modes. DOT also believes that these designations align with multiple statutory considerations while also encouraging investment in relatively under-utilized assets and will encourage and optimize the use of all modes over time as part of the broader multimodal freight transportation system in the U.S. Encouraging increased utilization of rail and waterway modes will increase the energy efficiency and reduce greenhouse gas emissions related to freight transportation.²

² https://www.transportation.gov/priorities/climate-and-sustainability/us-national-blueprint-transportation-decarbonization.

NMFN Designation Methodology and Extent

Highway Component Description: In designating the highway component of the NMFN, the FHWA-designated PHFS (23 U.S.C. 167(d)), the Strategic Highway Network (STRAHNET), and the Interstate Highway System were included. Additional segments were added by evaluating both Freight Analysis Framework (FAF) ³ data and Highway Performance Monitoring System (HPMS) ⁴ data, with consideration given to overall freight volumes as well as specific freight commodity groups. The specific thresholds below were proposed, in part, to produce a draft network that balanced the goals of a prioritized network and a network with broad coverage. Using 2022 HPMS data, facilities with 4,000 Annual Average Daily Truck Traffic (AADTT) or greater (85th percentile) and facilities with AADTT between 1,200 (70th percentile of volumes) and 4,000 (85th percentile) were identified. Using FAF modeling, segments that carried 8,170 total annual tons of freight, inclusive of all commodities (top 20%) and segments that fall in the top 1% of annual tons of freight carried by specific commodity groupings (using FAF categories) were also identified. Facilities with 4,000 AADTT or greater according to HPMS were included independent of FAF modeling. Highway segments identified by FAF commodity flow modeling were added when HPMS data showed AADTT between 1,200 (70th percentile of volumes) and 4,000 (85th percentile). For segments where FAF commodity flow modeling and HPMS counts did not overlap, DOT considered other factors to determine whether to include them in the Network. These factors included whether the segment was on the National Network; ⁵ whether it provided access to manufacturing, agriculture, natural resources, energy exploration, development, installation, or production areas; or if the roadway was discussed in a completed State Freight Plan.⁶ As part of this review, consideration was also given to designated CUFCs and CRFCs under 23 U.S.C. 167, as well as logical connections to other designated roadway segments.

³ https://www.bts.gov/faf.

⁴ https://www.fhwa.dot.gov/policyinformation/hpms.cfm.

⁵ The National Network is a congressionally authorized network for commercial truck traffic on which Federal truck width and length limits apply uniformly. https://ops.fhwa.dot.gov/freight/infrastructure/national_network.htm.

⁶ For links to completed State Freight Plans, visit: https://ops.fhwa.dot.gov/freight/fpcb/toolkit/allplans.aspx.

Highway Network Extent: 78,274 total roadway miles

• Urban miles (urban areas of 50,000 population or greater): 19,100

• Rural miles: 59,174

Rail Component Description: The rail Network designation includes all intermodal rail routes, as identified by the FRA, and all Strategic Rail Corridor Network (STRACNET) routes. Additional rail routes were added for segments in the top ⅔ based on the volume of freight carried, using Surface Transportation Board (STB) Waybill data.⁷ Additional segments were added that carry the top 102% of freight by commodity groups, consistent with the FAF commodity groupings used for the highway designation. As an additional measure of significance, rail segments that carry five trains or more per day were also added. This threshold is more likely to capture important segments operated by short line railroads. Other segments were added if they provided logical connections to segments identified through the described methodology.

⁷ https://www.stb.gov/reports-data/waybill/.

Rail Network Extent: 80,309 total rail miles:

• Class 1 miles: 67,476

• Class 2 miles: 3,047

• Class 3 miles: 9,786

Marine Ports Component Description: Marine ports that annually move 1.5 million tons of freight or greater, as estimated by the most recent U.S. Army Corps of Engineers (USACE) Waterborne Commerce Statistics Data (2022),⁸ were added to the Network. This threshold was informed by stakeholder input and to guarantee that selected ports would be served by moderate use waterways as defined by USACE. Commercial Strategic Seaports, as identified by the Maritime Administration and U.S. Department of Defense's National Port Readiness Network,⁹ were also added to the Network. To ensure coverage across commodity types, DOT also reviewed commodity level data to identify ports that handled at least 10% of any waterborne commodity type. This identified one additional port, Kivalina, Alaska, which was added to the Network.

⁸ https://www.iwr.usace.army.mil/About/Technical-Centers/WCSC-Waterborne-Commerce-Statistics-Center-2/WCSC-Waterborne-Commerce/.

⁹ https://www.maritime.dot.gov/ports/national-port-readiness-network-nprn.

Marine Ports Extent: 140 Ports.

• Ports with 1.5 million annual tons or greater: 137 (includes 16 of 18 Commerical Strategic Seaports)

• Additional Commercial Strategic Seaports: 2 (Everett, WA and Apra Harbor, GU)

• Additional ports carrying 10% or more of a freight commodity: 1 (Kivalina, AK)

Waterways Component Description: DOT is defining “Waterways” of the NMFN to include both elements of the inland waterway system and coastal navigation projects as categorized by USACE, who group segments of the National Waterways Network ¹⁰ as high use, moderate use, and low use. The network includes all high use waterways, which are those deep and shallow draft coastal navigation projects with 10 million tons or greater, and those inland waterways with 3 billion ton-miles or greater, based on the latest 5-year average (2018-2022) waterborne commerce statistics. The network also includes all moderate use waterways, which are those deep and shallow draft coastal navigation projects with one to 10 million tons, and those inland waterways with 1 to 3 billion ton-miles, based on the latest 5-year average waterborne commerce statistics. The Draft Network does not include low-use waterways, with the exception of certain offshore coastwise shipping routes in Maine and Alaska, island segments, and a handful of small connections made to provide direct access to a strategic seaport.

¹⁰ https://geodata.bts.gov/datasets/usdot::navigable-waterway-network-lines/about.

Waterways Extent: 21,329 total waterway miles.

• High Use waterways miles: 9,761

• Moderate Use waterways miles: 7,360

• Low Use waterways miles: 4,208

Airport Component Description: 2022 Bureau of Transportation Statistics (BTS) T-100 market data ¹¹ was used to identify freight volumes at airports. Airports that carry more than 0.2% of all freight and mail weight at all National Plan of Integrated Airport Systems (NPIAS) airports were designated. Additional NPIAS airports were designated that carry 0.2% of all freight weight, excluding mail weight. Additional NPIAS airports were also designated that had a higher-than-average freight to passenger ratio and fell within the top 130 of all freight and mail weight.

¹¹ https://geodata.bts.gov/datasets/usdot::t-100-domestic-market-and-segment-data/explore.

Airport Extent: 65 total airports.

• 57 airports meet the 0.2% freight and mail threshold.

• 2 additional airports meet the 0.2% of freight (no mail) threshold.

• 6 additional airports meet the freight to passenger ratio criteria and are in the top 130 by all freight and mail weight.

Other Infrastructure Considered: Pipelines and pipeline terminals are not included on the Network due to data security challenges, but connections to pipeline intermodal facilities were considered as part of other Network component designations. DOT conducted an analysis and determined that approximately 1,056 of 1,401 pipeline terminals identified by the Bureau of Transportation Statistics (BTS) ¹² are located within 1 mile of the draft designated Network.

¹² https://geodata.bts.gov/datasets/usdot::intermodal-freight-facilities-pipeline-terminals/about.

DOT also reviewed a database of Trailer-on-Flatcar (TOFC)/Container-on-Flatcar (COFC) intermodal terminals identified by BTS ¹³ to determine the extent to which the draft Network supports intermodal interchange between rail and truck. 230 of 241 identified TOFC/COFC terminals are located within 1 mile of the draft designated Network.

¹³ https://geodata.bts.gov/datasets/usdot::intermodal-freight-facilities-rail-tofc-cofc/about.

Opportunity for Additional Stakeholder Input and Next Steps

DOT is making an interactive version of the draft designated NMFN available here: (https://www.transportation.gov/freight-infrastructure-and-policy/NMFN). The web version of the map includes layers for draft designated roadways, railways, waterways, marine ports, and airports. It also includes multiple reference layers, including DOT's database of trailer-on-flat-car/container-on-flat-car intermodal facilities, marine Roll-on/Roll-off terminals, and air cargo terminals. Other networks, including the NHFN and the NHS Intermodal Connectors, are also included. Finally, DOT has also included a Safety Data layer capturing the location of truck-related fatalities from 2017-2022 Fatality Analysis Reporting System (FARS) database. These reference layers are being made available to provide additional context for DOT stakeholders and highlight opportunities for additional analysis in the future.

DOT is encouraging all stakeholders, including multimodal freight system users, transportation providers, metropolitan planning organizations, local governments, ports, airports, railroads, and States to submit comments with proposed modifications to the draft network. DOT is particularly interested in hearing from the following groups:

• Tribal Nations who own and operate freight infrastructure, and Tribal users of the freight system, and Tribal members impacted by freight movement.

• Members of underserved, overburdened, and disadvantaged communities that are impacted by freight movement.

Due to limitations in available freight data, DOT is interested in feedback or proposed modifications of the Draft Network that address the following areas:

• Preferred routing through urbanized areas, particularly to minimize negative community impacts.

• Key alternative routes that provide network redundancy are important for critical facilities, ensuring for resilience to disruptions.

• Volumes and values of commodities that flow through critical intermodal facilities.

DOT also invites comment on future opportunities for analysis, including the location and availability of dedicated truck parking, refueling sites for zero-emission medium and heavy-duty vehicles, priority freight rail lines and rail yards for electrification, or priority ports for shifting to shore power to improve air quality for local communities.

State Input Process

This Notice is providing an opportunity for stakeholders to comment on a draft Network. Based on the feedback provided to this Notice, DOT plans to designate the NMFN in Spring 2025.

Once DOT has designated the NMFN, States will have the opportunity to submit “Additional Designations,” per the process outlined in 49 U.S.C. 70103(b)(4). States will be required to consider nominations for additional designations from MPOs, State Freight Advisory Committees, and the owners and operators of multimodal freight infrastructure, and are highly encouraged to engage with community groups, particularly environmental justice communities, before submitting their designations. States will be limited to an additional 30% of mileage within each mode based on the DOT-designated network for the State. States will be required to certify their additional designations meet the requirements of statute. DOT anticipates providing States with an extended period of no less than 180 days to make these designations.

DOT is required to redesignate the NMFN within 5 years after the initial designation, and every 5 years thereafter.

Schedule

DOT is requesting comments, feedback, and proposed modifications within 45 days of publication of this Notice.

Public Comment

DOT will accept written comments on the public docket associated with this notice. If commenters would like to submit GIS data files with proposed modifications, please email freight@dot.gov to arrange for a file transfer.

Issued: January 6, 2025.
Allison L. Dane Camden,
Principal Deputy Assistant Secretary for Multimodal Freight.

[FR Doc. 2025-00474 Filed 1-10-25; 8:45 am]

BILLING CODE 4910-9X-P